DEPARTMENT OF THE INTERIOR

Fish and Wildlife Service

DEPARTMENT OF COMMERCE

National Oceanic and Atmospheric Administration

[I.D. 020705D]

Endangered and Threatened Wildlife and Plants; Initiation of a 5-Year Review of Listed Sea Turtles

AGENCIES: Fish and Wildlife Service (FWS), Interior, and National Marine Fisheries Service (NMFS), National Oceanic and Atmospheric Administration (NOAA), Commerce.

ACTION: Notice of 5-year status review of sea turtles.

SUMMARY: We, the FWS and NMFS (collectively the Services), announce a 5-year review of the green turtle (Chelonia mydas), hawksbill turtle (Eretmochelys imbricata), Kemp's ridley turtle (Lepidochelys kempii), leatherback turtle (Dermochelys coriacea), loggerhead turtle (Caretta caretta), and olive ridley turtle (Lepidochelys olivacea) under the Endangered Species Act of 1973, as amended (ESA). A 5-year review is a periodic process conducted to ensure that the listing classification of a species is accurate. It is based on the best scientific and commercial data available at the time of the review. New data are available since the last reviews were completed in 1985 for the green turtle and in 1995 for the hawksbill, Kemp's ridley, leatherback, loggerhead, and olive ridley turtles. Therefore, the Services are initiating a 5-year status review and soliciting information and comments pertaining to these species from any interested party. Based on the results of this 5-year review, we will make the requisite findings under the ESA.

DATES: Written comments and information related to this 5-year review must be received by July 20, 2005.

ADDRESSES: Written comments and information should be addressed to Barbara Schroeder, National Sea Turtle Coordinator, Marine Mammal and Marine Turtle Conservation Division, NMFS Office of Protected Resources, 1315 East-West Highway, Silver Spring, MD, 20910; or by fax (301) 427-2522, or by e-mail at: Seaturtle.Statusreview@noaa.gov. Information received in response to this notice will be available for public inspection, by appointment, during normal business hours, at the above address.

FOR FURTHER INFORMATION CONTACT: At NMFS, Barbara Schroeder (ph. 301-713-1401, fax 301-713-0376, e-mail barbara.schroeder@noaa.gov) or at FWS, Sandy MacPherson (ph. 904-232-2580, fax 904-232-2404, e-mail Sandy_MacPherson@fws.gov).

SUPPLEMENTARY INFORMATION:

Background

Six species of sea turtles are listed under the ESA. In 1970, the hawksbill was listed as endangered (35 FR 8495); the Kemp's ridley as endangered (35 FR 18320); and the leatherback as endangered (35 FR 8495). In 1978 (43 FR 32808), the green turtle was listed as endangered for breeding colonies in Florida and on the Pacific coast of Mexico and threatened elsewhere; the loggerhead as threatened; and the olive ridley as endangered for the breeding colony population on the Pacific coast of Mexico and threatened elsewhere.

Under the ESA, section 4(c)(2)(A) requires that we conduct a review of listed species at least once every 5 years. Then, on the basis of such reviews, we determine under section 4(c)(2)(B) whether or not any species should be removed from the threatened or endangered species list (List), or reclassified from endangered to threatened or from threatened to endangered. Removing a species from the List must be supported by the best scientific and commercial data available and under 50 CFR 424.11(d), only considered if data substantiate that the species is neither endangered nor threatened for one or more of the following reasons: (1) The species is considered extinct; (2) the species is considered to be recovered; and/or (3) the original data available when the species was listed, or the interpretation of such data, were in error. Any change in Federal classification would require a separate rulemaking process. The regulations in 50 CFR 424.21 require that we publish a notice in the Federal Register announcing species currently under active review.

The 5-year review provides an opportunity to review whether the listed entity is appropriately identified and delineated, determine appropriate classification, and recommend changes, as appropriate. In accordance with the February 7, 1996, Policy Regarding the Recognition of Distinct Vertebrate Population Segments (DPS) (61 FR 4722), the DPS policy will be considered and applied as appropriate during the 5-year review. The DPS policy states that “Any Distinct Population Segment of a vertebrate taxon that was listed prior to implementation of the DPS policy will be reevaluated on a case-by-case basis as recommendations are made to change the listing status for that distinct population segment.” For a population to be listed under the ESA as a DPS, three elements are considered: (1) The discreteness of the population segment in relation to the remainder of the species to which it belongs; (2) the significance of the population segment to the species to which it belongs; and (3) the population segment's conservation status in relation to the ESA's standards for listing (i.e., is the population segment endangered or threatened?). Distinct population segments of vertebrate species, as well as subspecies of all listed species, may be proposed for separate reclassification or for removal from the List. The DPS policy will be applied during the 5-year review.

Previous 5-year reviews were conducted in 1985 and in 1995. However, in the 1995 review, the green turtle review was not completed. This notice announces our active review of the green, hawksbill, Kemp's ridley, leatherback, loggerhead, and olive ridley turtles.

Public Solicitation of New Information

To ensure that the 5-year review is complete and based on the best available scientific and commercial information, we are soliciting new information from the public, concerned governmental agencies, Tribes, the scientific community, industry, environmental entities, and any other interested parties concerning the status of green turtles, hawksbill turtles, Kemp's ridley turtles, leatherback turtles, loggerhead turtles, and olive ridley turtles.

The 5-year review considers the best scientific and commercial data and all new information that has become available since the listing determination or most recent status review. Categories of requested information include: (1) Species biology, including but not limited to, population trends, distribution, abundance, demographics, and genetics; (2) habitat conditions, including but not limited to, amount, distribution, and suitability; (3) conservation measures that have been implemented that benefit the species; (4) threat status and trends; and (5) other new information, data, or corrections, including but not limited to, taxonomic or nomenclatural changes, identification of erroneous information contained in the List, and improved analytical methods.

See ADDRESSES for where to submit comments and materials for this 5-year review. Our practice is to make comments, including names and home addresses of respondents, available for public review during regular business hours. Individual respondents may request that we withhold a respondent's identity. If you wish us to withhold your name or address, you must write this request prominently at the beginning of your comment. We will withhold this information to the extent consistent with applicable law. We will make all submissions from organizations or businesses, and from individuals identifying themselves as representatives or officials of organizations or businesses, available for public inspection in their entirety. Comments and materials received will be available for public inspection, by appointment, during normal business hours (see ADDRESSES section). The Services will continue to accept new information on listed sea turtles outside of the comment period for this 5-year review.

Authority

This document is published under the authority of the ESA of 1973, as amended (16 U.S.C. 1531 et seq.).

March 25, 2005.
Sam D. Hamilton,
Regional Director, Southeast Region, Fish and Wildlife Service.

Dated: March 3, 2005.
P. Michael Payne,
Chief, Marine Mammal and Marine Turtle Conservation Division, National Marine Fisheries Service.

March 9, 2005.
Ren Lohoefener,
Acting Regional Director, Southwest Region, Fish and Wildlife Service.

[FR Doc. 05-8032 Filed 4-20-05; 8:45 am]

BILLING CODE 3510-22-S